DEPARTMENT OF TRANSPORTATION

Federal Transit Administration

Prevention of Prohibited Drug Use in Transit Operations; Prevention of Alcohol Misuse in Transit Operations

AGENCY: Federal Transit Administration, DOT.

ACTION: Notice of random drug and alcohol testing rates.

SUMMARY: This notice announces the random testing rates for employers subject to the Federal Transit Administration's (FTA) drug and alcohol rules.

EFFECTIVE DATE: March 8, 2001.

FOR FURTHER INFORMATION CONTACT: Mark Snider, Drug and Alcohol Program Manager for the Office of Safety and Security, (202) 366-2896 (telephone) and (202) 366-7951 (fax). Electronic access to this and other documents concerning FTA's drug and alcohol testing rules may be obtained through the FTA World Wide Web home page at http://www.fta.dot.gov.

SUPPLEMENTARY INFORMATION: The FTA required large transit employers to begin drug and alcohol testing employees performing safety-sensitive functions on January 1, 1995, and to report, annually by March 15 of each year beginning in 1996, the number of such employees who had a verified positive for the use of prohibited drugs, and the number of such employees who tested positive for the misuse of alcohol. Small employers commenced their FTA-required testing on January 1, 1996, and began reporting the same information as the large employers beginning March 15, 1997. Employers are required annually to submit other data, not relevant here, in the same report; these data are available from the FTA as discussed below.

The 1994 rules established a random testing rate for prohibited drugs and the misuse of alcohol; specifically, the rules require that employers conduct random drug tests at a rate equivalent to at least 50 percent of their total number of safety-sensitive employees for prohibited drug use and at least 25 percent of the misuse of alcohol. The rules provide that the drug random testing rate may be lowered to 25 percent if the “positive rate” for the entire transit industry is less than one percent for two consecutive years. Once lowered, it may be raised to 50 percent if the positive rate equals or exceeds one percent for any one year (“Positive rate” means the number of positive results for random drug tests conducted under part 653 plus the number of refusals of random tests required by part 653, divided by the total number of random drug tests, plus the number of refusals of random tests required by part 653.)

The alcohol rule provides that the random rate may be lowered to 10 percent if the “violation rate” for the entire transit industry is less than .5 percent for two consecutive years. It will remain at 25 percent if the “violation rate” is equal to or greater than .5 percent but less than one percent, and it will be raised to 50 percent if the “violation rate” is one percent or greater for any one year. (“Violation rate” means the number of covered employees found during random tests given under part 654 to have an alcohol concentration of .04 or greater, plus the number of employees who refuse a random test required by part 654, divided by the total reported number of random alcohol tests conducted under part 654, plus the total number of refusals of random tests, required by part 654.)

FTA has received and analyzed the 1999 data from large and small transit employers. The “positive rate” for random drug tests was 1.004 percent and the “violation rate” for random alcohol tests was 0.18 percent; therefore, for 2001, transit employers will continue to be required to conduct random drug tests at a rate equivalent to at least 50 percent of the total number of their “safety-sensitive” employees for prohibited drugs. In 2000, the FTA retained the random alcohol testing rate at 10 percent. Because the random alcohol violation rate was lower than .5 percent for two consecutive years (0.22 percent for 1998 and 0.18 for 1999), the random alcohol testing rate will remain at 10 percent for 2001.

FTA will be publishing a detailed report on the 1999 data collected from large and small employers. This report may be obtained from the Office of Safety and Security, Federal Transit Administration, 400 Seventh Street, SW., Room 9301, Washington, DC 20590, (202) 366-2896.

Dated: March 2, 2001.
Hiram J. Walker,
Acting Deputy Administrator.

[FR Doc. 01-5677 Filed 3-7-01; 8:45 am]

BILLING CODE 4910-57-M